DEPARTMENT OF COMMERCE

International Trade Administration

[A-570-890]

Wooden Bedroom Furniture From the People's Republic of China: Initiation of Antidumping Duty New Shipper Review

AGENCY: Import Administration, International Trade Administration, Department of Commerce.

DATES: Effective Date: August 31, 2011.

SUMMARY: The Department of Commerce (“Department”) has determined that a request for a new shipper review of the antidumping duty order on wooden bedroom furniture from the People's Republic of China (“PRC”) meets the statutory and regulatory requirements for initiation. The period of review (“POR”) for the new shipper review is January 1, 2011, through June 30, 2011.

FOR FURTHER INFORMATION CONTACT: Patrick O'Connor or Rebecca Pandolph, AD/CVD Operations, Office 4, Import Administration, International Trade Administration, U.S. Department of Commerce, 14th Street and Constitution Avenue, NW., Washington, DC 20230; telephone: (202) 482-0989 or (202) 482-3627 respectively.

SUPPLEMENTARY INFORMATION:

Background

The antidumping duty order on wooden bedroom furniture from the PRC was published on January 4, 2005. See Notice of Amended Final Determination of Sales at Less Than Fair Value and Antidumping Duty Order: Wooden Bedroom Furniture From the People's Republic of China, 70 FR 329 (January 4, 2005). On August 1, 2011, pursuant to section 751(a)(2)(B)(i) of the Tariff Act of 1930, as amended (the “Act”), and 19 CFR 351.214(c), the Department received a timely request for a new shipper review from Marvin Furniture (Shanghai) Co. Ltd. (“Marvin”). On August 11, 2011, and August 19, 2011, the Department issued supplemental questionnaires to Marvin. On August 19, 2011, Marvin submitted its response to the August 11, 2011 supplemental questionnaire. On August 19, 2011, the Department placed entry data received from U.S. Customs and Border Protection (“CBP”) on the record of this proceeding and provided interested parties with an opportunity to comment on the data. On August 24, 2011, Marvin commented on the CBP data and requested an extension to file its response to the August 19, 2011 supplemental questionnaire.

Marvin stated that it is both the exporter and producer of the subject merchandise upon which its request for a new shipper review is based. Pursuant to section 751(a)(2)(B)(i)(I) of the Act and 19 CFR 351.214(b)(2)(i), Marvin certified that it did not export wooden bedroom furniture to the United States during the period of investigation (“POI”). In addition, pursuant to section 751(a)(2)(B)(i)(II) of the Act and 19 CFR 351.214(b)(2)(iii)(A), Marvin certified that, since the initiation of the investigation, it has never been affiliated with any PRC exporter or producer who exported wooden bedroom furniture to the United States during the POI, including those not individually examined during the investigation. As required by 19 CFR 351.214(b)(2)(iii)(B), Marvin also certified that its export activities were not controlled by the central government of the PRC. See generally, Memorandum to the File through Abdelali Elouaradia, Director, AD/CVD Operations, Office 4: Initiation of Antidumping New Shipper Review of Wooden Bedroom Furniture from the People's Republic of China: Marvin Furniture (Shanghai) Co. Ltd.: (“Initiation Checklist”), dated concurrently with this notice.

In addition to the certifications described above, pursuant to 19 CFR 351.214(b)(2)(iv), Marvin submitted documentation establishing the following: (1) The date on which it first shipped wooden bedroom furniture for export to the United States and the date on which the wooden bedroom furniture was first entered, or withdrawn from warehouse, for consumption; (2) the volume of its first shipment; and (3) the date of its first sale to an unaffiliated customer in the United States. See generally, Initiation Checklist.

The Department conducted a CBP database query and confirmed by examining the results of the CBP data query that Marvin's subject merchandise entered the United States during the POR specified by the Department's regulations. See 19 CFR 351.214(g)(1)(i)(A). Pursuant to 19 CFR 351.221(c)(1)(i), the Department will publish the notice of initiation of a new shipper review no later than the last day of the month following the anniversary or semiannual anniversary month of the order.

Initiation of New Shipper Review

Pursuant to section 751(a)(2)(B) of the Act, 19 CFR 351.214(b), and the information on the record, the Department finds that Marvin meets the threshold requirements for initiation of a new shipper review of its shipment(s) of wooden bedroom furniture from the PRC. See generally, Initiation Checklist. The POR for the new shipper review of Marvin is January 1, 2011, through June 30, 2011. See 19 CFR 351.214(g)(1)(i)(B). The Department intends to issue the preliminary results of this review no later than 180 days from the date of initiation, and the final results of this review no later than 270 days from the date of initiation. See section 751(a)(2)(B)(iv) of the Act.

It is the Department's usual practice, in cases involving non-market economies, to require that a company seeking to establish eligibility for an antidumping duty rate separate from the country-wide rate provide evidence of de jure and de facto absence of government control over the company's export activities. Accordingly, we will issue a questionnaire to Marvin which will include a separate rate section. The review of the exporter will proceed if the response provides sufficient indication that the exporter is not subject to either de jure or de facto government control with respect to its exports of wooden bedroom furniture.

We will instruct CBP to allow, at the option of the importer, the posting, until the completion of the review, of a bond or security in lieu of a cash deposit for certain entries of the subject merchandise from Marvin in accordance with section 751(a)(2)(B)(iii) of the Act and 19 CFR 351.214(e). Because Marvin stated that it both produces and exports the subject merchandise, the sales of which form the basis for its new shipper review request, we will instruct CBP to permit the use of a bond only for entries of subject merchandise which the respondent both produced and exported.

Interested parties requiring access to proprietary information in this new shipper review should submit applications for disclosure under administrative protective order in accordance with 19 CFR 351.305 and 351.306.

This initiation and notice are published in accordance with section 751(a)(2)(B) of the Act and 19 CFR 351.214 and 351.221(c)(1)(i).

Dated: August 25, 2011.
Christian Marsh,
Deputy Assistant Secretary for Antidumping and Countervailing Duty Operations.

[FR Doc. 2011-22327 Filed 8-30-11; 8:45 am]

BILLING CODE 3510-DS-P